DEPARTMENT OF ENERGY

Federal Energy Regulatory Commission

[Project No. 2069-007 Arizona]

Arizona Public Service Company; Notice to Teleconference

July 10, 2003.

a. Date and Time of Teleconference: July 25, 2003, at 1:00 p.m. EDT.

b. FERC Contact: Dianne Rodman at (202) 502-6077; dianne.rodman@ferc.gov

c. Purpose of the Teleconference: The Federal Energy Regulatory Commission intends to discuss with Arizona Public Service Company and other stakeholders comments on the Draft Environmental Assessment for the proposed surrender of the license for the Childs Irving Hydroelectric Project No. 2069 and any other relevant filings.

d. If you want to participate by teleconference, please contact Dianne Rodman at the number listed above no later than July 24, 2003.

Magalie R. Salas,
Secretary.

[FR Doc. 03-18021 Filed 7-16-03; 8:45 am]

BILLING CODE 6717-01-P